Title 3—

The President

Proclamation 8211 of December 11, 2007

Wright Brothers Day, 2007

By the President of the United States of America

A Proclamation

The cause of discovery and exploration is a desire written in the human heart. On Wright Brothers Day, we remember the achievement of two young brothers on the Outer Banks of North Carolina whose persistence, skill, ingenuity, and daring revolutionized the world.

Orville and Wilbur Wright made the first manned, powered flight on December 17, 1903. Orville experienced the thrill of flight when he felt the first lift of the wing of the small wood and canvas aircraft that would travel 120 feet in 12 seconds. The brothers' passion and spirit of discovery helped define our Nation and paved the way for future generations of innovators to launch satellites, orbit the Earth, and travel to the Moon and back.

Our country is continuing the Wright brothers' great American journey. My Administration is committed to advancing space science, human space flight, and space exploration. We will continue to work to expand the horizons of human knowledge to ensure that America is at the forefront of discovery for decades to come.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, GEORGE W. BUSH, President of the United States of America, do hereby proclaim December 17, 2007, as Wright Brothers Day.

IN WITNESS WHEREOF, I have hereunto set my hand this eleventh day of December, in the year of our Lord two thousand seven, and of the Independence of the United States of America the two hundred and thirty-second.

[FR Doc. 07-6073

Filed 12-13-07; 8:58 am]

Billing code 3195-01-P